DEPARTMENT OF HOMELAND SECURITY

[Docket No. CISA-2024-0009]

National Security Telecommunications Advisory Committee

AGENCY: Cybersecurity and Infrastructure Security Agency (CISA), Department of Homeland Security (DHS).

ACTION: Notice of partially closed Federal Advisory Committee meeting.

SUMMARY: CISA is publishing this notice to announce the President's National Security Telecommunications Advisory Committee (NSTAC) meeting on May 23, 2024, in Washington DC. This meeting will be partially closed to the public. The public can access the open portion of the meeting via teleconference.

DATES:

Meeting Registration: Registration to attend the meeting is required and must be received no later than 5:00 p.m. Eastern Daylight Savings Time (EDT) on May 20, 2024. For more information on how to participate, please contact NSTAC@cisa.dhs.gov.

Speaker Registration: Registration to speak during the meeting's public comment period must be received no later than 5:00 p.m. EDT on May 16, 2024.

Written Comments: Written comments must be received no later than 5:00 p.m. EDT on May 20, 2024.

Meeting Date: The NSTAC will meet on May 23, 2024, from 1:00 to 4:30 p.m. EDT. The meeting may end early if the committee has completed its business.

ADDRESSES: The May 23, 2024 NSTAC Meeting's open session is set to be held from 3:15 to 4:30 p.m. EDT at 1650 Pennsylvania Avenue NW, Washington, DC 20504. Members of the public may participate via teleconference. For access to the conference call bridge, or to request special assistance, please email NSTAC@cisa.dhs.gov by 5:00 p.m. EDT on May 20, 2024. The NSTAC is committed to ensuring all participants have equal access regardless of disability status. If you require a reasonable accommodation due to a disability to fully participate, please contact the individual listed in the FOR FURTHER INFORMATION CONTACT section as soon as possible.

Comments: Members of the public are invited to provide comments on issues that will be considered by the committee as listed in the SUPPLEMENTARY INFORMATION section below. Associated materials that may be discussed during the meeting will be made available for review at https://www.cisa.gov/nstac prior to the day of the meeting. Comments should be submitted by 5:00 p.m. EDT on May 20, 2024, and must be identified by Docket Number CISA-2024-0009. Comments may be submitted by one of the following methods:

• Federal eRulemaking Portal: www.regulations.gov. Please follow the instructions for submitting written comments.

• Email: NSTAC@cisa.dhs.gov. Include the Docket Number CISA-2024-0009 in the subject line of the email.

Instructions: All submissions received must include the words “Cybersecurity and Infrastructure Security Agency” and the Docket Number for this action. Comments received will be posted without alteration to www.regulations.gov, including any personal information provided. You may wish to review the Privacy & Security Notice available via a link on the homepage of www.regulations.gov.

Docket: For access to the docket and comments received by the NSTAC, please go to www.regulations.gov and enter docket number CISA-2024-0009.

A public comment period is scheduled to be held during the meeting from 4:00 to 4:10 p.m. EDT. Speakers who wish to participate in the public comment period must email NSTAC@cisa.dhs.gov to register. Speakers should limit their comments to three minutes and will speak in order of registration. Please note that the public comment period may end before the time indicated, following the last request for comments.

FOR FURTHER INFORMATION CONTACT: Christina Berger, 202-701-6354, NSTAC@cisa.dhs.gov.

SUPPLEMENTARY INFORMATION: The NSTAC is established under the authority of Executive Order (E.O.) 12382, dated September 13, 1982, as amended by E.O. 13286 and 14048, continued under the authority of E.O. 14109, dated September 30, 2023. Notice of this meeting is given under the Federal Advisory Committee Act (FACA), 5 U.S.C. 10 (Pub. L. 117-286). The NSTAC advises the President on matters related to national security and emergency preparedness (NS/EP) telecommunications and cybersecurity policy.

Agenda: The NSTAC will meet in an open session on Thursday, May 23, 2024, from 3:15 p.m. to 4:30 p.m. EDT to discuss current NSTAC activities and the government's ongoing cybersecurity and NS/EP communications initiatives. This open session will include: (1) an update on the administration's cybersecurity initiatives; (2) a keynote address;(3) an update on current NSTAC activities; and (4) a status update on the NSTAC Principles for Baseline Security Offerings from Cloud Service Providers Study.

The committee will also meet in a closed session from 1:00 to 3:00 p.m. EDT during which time: (1) senior government intelligence officials will provide a threat briefing concerning threats to NS/EP communications; and (2) engage NSTAC members in follow-on discussion on how future studies can help inform policy to mitigate threats.

Basis for Closure: In accordance with section 10(d) of FACA and 5 U.S.C. 552b(c)(1), The Government in the Sunshine Act, it has been determined that a portion of the agenda requires closure.

These agenda items are the: (1) classified threat briefing and discussion, which will provide NSTAC members the opportunity to discuss information concerning threats to NS/EP communications with senior government intelligence officials; and (2) potential study topic discussion. The briefing is anticipated to be classified at the top secret/sensitive compartmented information level. Disclosure of these threats during the briefing, as well as vulnerabilities and mitigation techniques, is a risk to the Nation's cybersecurity posture because adversaries could use this information to compromise commercial and government networks. Subjects discussed during the potential study topics discussion are tentative and are under further consideration by the committee.

Therefore, this portion of the meeting is required to be closed pursuant to section 10(d) of FACA and 5 U.S.C. 552b(c)(1) because it will disclose matters that are classified.

Dated: April 18, 2024.
Christina Berger,
Designated Federal Officer, National Security Telecommunications Advisory Committee, Cybersecurity and Infrastructure Security Agency, Department of Homeland Security.

[FR Doc. 2024-08741 Filed 4-23-24; 8:45 am]

BILLING CODE 9110-9P-P